DEPARTMENT OF ENERGY

Federal Energy Regulatory Commission

[Docket No. CP02-382-000]

West Texas Gas, Inc.; Notice of Request for Clarification of Authority To Construct Replacement Facilities, or in the Alternative, Application To Amend Presidential Permit and Section 3 Authorization

June 17, 2002.

Take notice that on June 6, 2002, West Texas Gas, Inc. (WTG), 211 North Colorado, Midland, Texas, 79701, filed a request for clarification of its authority to construct, operate and maintain certain natural gas pipeline facilities as “replacement” facilities without further authorization under its existing Presidential Permit and Natural Gas Act (“NGA”) Section 3 authorization, issued in Docket No. CP96-497 ¹, all as more fully set forth in the application which is on file with the Commission and open to public inspection. This filing may also be viewed on the web at http://www.ferc.gov using the “Rims” link, select “Docket#” and follow the instructions (call 202-208-2222 for assistance).

¹ Valero Transmission Co. and West Texas Gas, Inc., 76 FERC ¶ 61,264 (1996).

Specifically, WTG proposes to replace a total of approximately 1,165 feet of two parallel 8-inch diameter pipelines with a single 12-inch pipeline which will have a substantially equivalent delivery capacity as the existing facilities. The current Presidential Permit authorizes a maximum capacity of 38,000 Mcf per day. Approximately 886 feet of these facilities are located on the U.S. side of the border near Eagle Pass, Texas, and are subject to the jurisdiction of the Commission. The proposed facilities will connect at the center of the Rio Grande with the pipeline facilities of Compania Nacional de Gas, S.A. de C.V. (Conagas), and will be used to export natural gas to serve Conagas' existing customers near the City of Piedras Negras, Mexico. WTG states that the pipeline would be constructed using directional drilling under the Rio Grande starting on the Mexican side of the river and would be tied into the existing 8-inch lines located 35 feet from the U.S. bank of the river.

WTG emphasizes that replacement is necessary because portions of the existing facilities have become uncovered and exposed to river currents in the Rio Grande. According to WTG, its existing authorization includes a condition that WTG make “all necessary renewals and replacement” of the facilities (See Article 8 of Permit). WTG is concerned that, unless clarification is issued promptly so that construction may commence, stress from currents causing further erosion and underwater suspension of the pipeline may destabilize and endanger the facilities. In the alternative, WTG requests the Commission to amend its existing authorization to permit the construction of the replacement facilities.

Any questions concerning the application may be directed to Richard Hatchett, 211 North Colorado, Midland, Texas 79701 or call (915) 683-4349.

There are two ways to become involved in the Commission's review of this project. First, any person wishing to obtain legal status by becoming a party to the proceedings for this project should, on or before July 8, 2002, file with the Federal Energy Regulatory Commission, 888 First Street, NE., Washington, DC, 20426, a motion to intervene or a protest in accordance with the Commission's rules of practice and procedure (18 CFR §§ 385.214 or 385.211). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to take, but the filing of a comment alone will not serve to make the filer a party to the proceedings. The Commission's rules require that any person filing comments in opposition to the project provide copies of their protest only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for mailing of environmental documents issued by the Commission) and will not have the right to seek court review of the Commission's final order.

Comments, protests and interventions may be filed electronically via the Internet in lieu of paper. See, 18 CFR § 385.2001(a)(1)(iii) and the instructions on the Commission's Web site under the “e-Filing” link.

If the Commission decides to set the application for a formal hearing before an Administrative Law Judge, the Commission will issue another notice describing that process. At the end of the Commission's review process, a final Commission Order will be issued.

Linwood A. Watson, Jr.,
Deputy Secretary.

[FR Doc. 02-15686 Filed 6-20-02; 8:45 am]

BILLING CODE 6717-01-P